DEPARTMENT OF AGRICULTURE

Forest Service

Payette National Forest, ID; Upper Bear Timber Sale

AGENCY: Forest Service, USDA.

ACTION: Notice of intent to prepare an environmental impact statement.

SUMMARY: The USDA Forest Service will prepare the Upper Bear Timber Sale environmental impact statement (EIS). The proposed action in its EIS is to reduce fuels within a “fuels reduction zone” (FRZ), manage forest vegetation, and manage roads. The EIS will analyze the effects of the proposed action and alternatives. The agency gives notice of the full National Environmental Policy Act (NEPA) analysis and decision making process on the proposal so interested and affected members of the public may participate and contribute to the final decision. The Payette National Forest invites written comments and suggestions on the scope of the analysis and the issues of address.

DATES: Comments must be received in writing by June 8, 2002.

ADDRESSES: Send written comments to Faye L. Krueger, Council District Ranger at P.O. Box 567, Council, Idaho, 83612.

FOR FURTHER INFORMATION CONTACT: Questions about the proposed project and scope of analysis should be directed to Alan R. Dohmen, Team Leader, at the above address, or phone at (208) 253-0100.

SUPPLEMENTARY INFORMATION: The analysis area is about 25 air miles north-northwest of Council, Idaho, in Adams County. The area can be reached by taking Forest Road #110 (Bear Creek) via Forest Roads #105 (Landore Road) and #002 (Council-Cuprum Road). The project area consists of National Forest Systems lands located in all or portions of sections 1-11, 16-18, 22-19 and 32-36, Township 5S, Range 2W, Boise Meridian. It is located entirely within the 11,000-acre Upper Bear subwatershed, and a small portion of the 9,500-acre Middle Bear subwatershed. The proposed action will be in compliance with the Payette National Forest Land and Resource Management Plan (Forest Plan of 1988), as amended, which provides overall guidance for management of this area.

Purpose and Need for Action

The purpose and need for the proposed action is to: (1) Improve timber stand growth and yield; (2) Reduce the incidence and hazard of insect and disease in timbered stands through harvest and salvage, (3) Reduce the risk of wildland fire to forestland, investments, adjacent private lands, and facilities, and (4) Reduce the potential of sediment delivery to Bear Creek from roads, and eliminate roads unneeded for future management. The proposal has three main objectives it would achieve. It would: (1) Reduce the risk of extreme fire behavior (crown fire) in the Upper and Middle Bear drainages. This in turn would: (a) Reduce the risk that wildfire would damage and/or destroy tree plantations in the Bear Creek drainage, thereby maintaining past investments; (b) protect structures located at the Bear Work Center; (c) provide an area that would allow firefighters to safely suppress an escaped wildfire; and (d) provide a foundation to expand future fuels reduction activities into other portions of the Upper Bear drainage. (2) Reduce overstocked timber stands and plantations through timber harvest and thinning. This in turn would: (a) Improve seral tree species health and decrease opportunities for insect and disease outbreaks; (b) improve tree growth by reducing the competition between trees for sunlight, moisture, and nutrients, (c) reforest with seral tree species, and (d) contribute to the Council District's portion of the Payette National Forest allowable sale quantity. (3) Design a transportation system that responds to human access needs while reducing impacts and improving watershed conditions for hydrologic function, soil productivity, and fisheries and wildlife habitat. This in turn would: (a) Improve the hydrological function and productivity on soils committed to roads that may no longer be needed for future management, (b) reduce current and potential sediment delivery to streams from roads, especially within Riparian Conservation Areas (RCAs), (c) improve fish passage at road crossings, (d) avoid management activities that have the potential to increase temperatures in Wildhorse River; a downstream; 303(d) listed Waterbody; (e) avoid additional cumulative impacts to the Snake River; a downstream 303(d) listed Waterbody, and (f) manage open densities to maintain the Forest Plan Elk Habitat Effectiveness (EHE) rating in Issue Reporting Area (IRA) 112, and improve the Forest Plan EHE rating in IRA 114.

Proposed Action

The Proposed Action would reduce fuels, manage forest vegetation, and manage roads. (1) Reduce Fuels—Use silvicultural treatments that use mechanical thinning and prescribed fire on 820 acres to create a “fuels reduction zone” (FRZ). Within the FRZ, thinning of trees is proposed on 643 acres and underburning on the entire 820 acre. A range of 32 to 38 trees per acre is planned to be retained in this FRZ, which would differ from that planned in other harvest units. (2) Manage Forest Vegetation—(a) Use ground-based, skyline, and helicopter yarding systems to harvest timber on appropriately 980 acres, of which 280 acres are within the FRZ. The harvest prescriptions would encompass 780 acres of reserve tree (retain 3-10 healthy seral trees per acre), 110 acres of shelterwood seed-cut (retain 10-15 healthy seral trees per acre), 90 acres of commercial thin, and an additional 680 acres of precommercial thin. Reforestation treatments would include 775 acres, of which approximately 370 acres would require plantation fencing. (b) Reduce generated fuels and/or prepare sites for planting by underburning or piling and burning of logging slash. (3) Manage Roads—(a) Construct 4.5 miles of new roads (close following project implementation), and decommission 11.9 miles of existing roads. (b) Close year-round approximately 8.5 miles of road that are currently open year-round and/or seasonally.

Responsible Official

The responsible official is the Forest Supervisor of the Payette National Forest.

Scoping Process

Public notices have placed in local and regional newspapers. A public meeting is anticipated to occur following issuance of the draft EIS. The meeting will be announced in the Payette National forest's newspaper of record, the Idaho Statesman, Boise, Idaho.

Preliminary Issues

(1) Water Quality—Prescribed fire, road construction, and timber harvest have the potential to increase erosion and sedimentation in the Upper Bear Subwatershed. Cumulative impacts from these activities also have the potential to affect beneficial uses in the 303(d) listed Water bodies downstream of the project. Increased road density reduces the geomorphic integrity of the watershed and increases the likelihood of road related erosion. (2) Fisheries—The proposed activities may increase sediment levels and affect aquatic habit for fish, particularly habitat for bull trout in the upper Bear Creek watershed. Some culverts may restrict fish passage. (3) Wildlife Habitat—Goshawks are known to nest in or around habitat similar to what is present in the project area. Prescribed fire and timer harvest activities can affect nest sites. Flammulated owls and white-headed woodpeckers are known to use old, large-diameter Ponderosa pine, and Douglas-fir habitiat, which is in short supply in the project area. Proposed activities can affect nesting and foraging areas. Historically, the project area may have provided habitat for mountain quail. Proposed activities may affect potentially limited habitat for this and other species that use forested riparian habitat. Snag habitat may be in short supply in and around previous harvests units and along roads. Sufficient snag habitat must be retained where possible. (4) Noxious Weeds—Disturbance from new road construction, timber harvest, and burning could allow noxious weeds to become established and/or spread in the project area. (5) Recreation—The public uses the Bear Creek and Council-Cuprum Roads for recreational driving during the summer and fall. The quality of this recreational experience could be affected by the removal of timer, logging activity, log truck traffic, road closures and road decommissioning, prescribed burning activities, and smoke. (6) Road Construction and Decommissioning—New road construction can allow for improved access, but may also affect other resource values such as fisheries, water quality, and wildlife habitat.

Design features for the Proposed Action will help reduce or eliminate other possible impacts (visual resource, heritage resources, water quality, soils, fisheries, wildlife, etc.).

Early Notice of Importance of Public Participation in Environmental Review

A draft environmental impact statement will be prepared for comment. The comment period on the draft environmental impact statement will be 45 days from the date the Environmental Protection Agency publishes the notice of availability in the Federal Register.

The Forest Service believes, at this early stage, it is important to give reviewers notice of several court rulings related to public participation in environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the council on Environmental Quality Regulations for implementing the procedural provisions of the National Environmental Policy Act at 40 CFR 1503.3 in addressing these points.

Dated: May 1, 2002.
Robert S. Giles,
Acting Forest Supervisor.

[FR Doc. 02-11355 Filed 5-7-02; 8:45 am]

BILLING CODE 3410-11-M